DEPARTMENT OF LABOR

Employment and Training Administration

Young Offender Initiative: Reentry Grant Program; Demonstration Grant Program

AGENCY: Employment and Training Administration (ETA), Labor.

ACTION: Notice of availability of funds and solicitation for grant applications (SGA).

SUMMARY: This notice contains all of the necessary information and forms needed to apply for grant funding. The Departments of Labor, Justice, and Health and Human Services are requesting applications for the Fiscal Year 2001 Young Offender Initiative: Demonstration Grant Program projects. Approximately $11.5 million is available to fund demonstration grants to provide services aimed at youth who are or have been under criminal justice supervision or involved in gangs. The Department of Labor (DOL) has worked with the Office of Juvenile Justice and Delinquency Prevention in the U.S. Department of Justice (DOJ) and the Substance Abuse and Mental Health Services Administration (SAMHSA) in the U.S. Department of Health and Human Services (DHHS) in deciding to use these funds for an innovative model to serve young offenders, gang members, and at-risk youth. This model is called the One-Stop Youth Services Demonstration Model. Grants will be given in two categories: Category A: Large Areas and Category B: Small to Medium-Sized Areas. The model is based upon new research. Applicants can only apply under one of the two categories which must be clearly identified on the face sheet of the application.

Local Workforce Investment Boards (Local Boards), other political subdivisions of the State, and private entities are eligible to receive grant funds under this announcement. Local workforce investment areas who were awarded grants to administer Youth Offender Demonstration Projects in 1999 (SGA/DAA 98-015, dated September 2, 1998) and 2001 (SGA/DFA 01-101, dated December 11, 2000) are ineligible to apply under this Solicitation. However, first round (1999) grantees who were not awarded additional funds to continue their current programs through DOL's Letter of Competition, dated December 7, 2000, are eligible to apply.

DATES: The closing date for receipt of applications is Monday, October 1, 2001. Applications must be received by 4 p.m. (Eastern Daylight Savings Time) at the address below. No exceptions to the mailing and hand-delivery conditions set forth in this notice will be granted. Applications that do not meet the conditions set forth in this notice will not be honored. Telefacsimile (FAX) applications will not be honored.

ADDRESSES: Applications must be mailed to: U.S. Department of Labor, Employment and Training Administration, Division of Federal Assistance, Attention: B. Jai Johnson, Reference: SGA/DFA 01-109, 200 Constitution Avenue, NW., Room S-4203, Washington, DC 20210.

FOR FURTHER INFORMATION CONTACT: Questions should be faxed to B. Jai Johnson at (202) 693-2879, (this is a not a toll-free number). All inquiries should include the SGA/DFA number 01-109, and a contact name, fax and phone numbers. This announcement will also be published on the Internet on the Employment and Training Administration's Home Page at http://www.doleta.gov. Award notifications will also be published on the Home Page.

SUPPLEMENTARY INFORMATION: This solicitation is jointly issued by the U.S. Department of Labor (DOL), Employment and Training Administration (ETA); the U.S. Department of Justice (DOJ), Corrections Program Office (CPO), Office of Justice Programs (OJP); and U.S. Department of Health and Human Services (DHHS), Substance Abuse and Mental Health Services Administration's (SAMHSA) Center for Substance Abuse Treatment (CSAT) and Center for Mental Health Services (CMHS). Additional offices within DOJ's Office of Justice Programs helping to guide this effort include the Office of Juvenile Justice and Delinquency Prevention, the National Institute of Justice, and the Executive Office of Weed and Seed.

These grants make use of funds appropriated in the Fiscal Year (FY) 2001 Federal budget, and are the third round of Young Offender Initiative: Demonstration Grant Program projects. Two prior rounds of such grants have been awarded based on appropriations in the FY 1998 and FY 2000 budgets.

This solicitation is one of two dealing with the overall Young Offender Initiative: Reentry Grant Program (Initiative). It is for a smaller number of experimental Young Offender Initiative: Demonstration Grant Program projects and published coincident with the larger Young Offender Initiative: Reentry Grant Program solicitation.

Since 1998, at Congressional direction, DOL and DOJ have funded grants under the Youth Offender Demonstration Project to provide services focused on youth who are or have been under criminal justice supervision or involved in gangs or are at risk of this involvement. Based upon a recent interim report, Interim Report for Youth Offender Demonstration Project, Process Evaluation (Research and Evaluation Associates, Inc., March 2001), that assessed the Youth Offender demonstrations, there is solid evidence of a need to further test methods of effective delivery of services to the 14-24 year old target group in additional sites.

Therefore, DOL is proposing to fund additional Young Offender Initiative: Demonstration Grant Program projects (using funds separate from those dedicated to the 25 grants proposed in the Initiative, OJP-1320) in a small number of sites. Services will include youth development services and they will focus primarily on preparing young offenders, gang members, and at-risk youth ages 14 to 24 for positive engagement in pro-social activity and long-term employability and employment. The purpose of these additional DOL funds will be to further test a structured set of activities for subject target group, using a decisive organizational design grounded on research and PEPNet (Effective Practices) criteria.

This demonstration provides a unique opportunity for local areas to address the needs of the young offenders and at-risk youth through an array of services offered at One-Stop centers. Models developed under this latest effort will enhance public safety by assisting communities to develop and sustain an infrastructure to reintegrate offenders. In addition, DOL, DOJ and DHHS will be able to evaluate the projects, identify effective practices, and disseminate these practices to other communities.

This Notice describes the application submission requirements, the process that eligible entities must use to apply for funds covered by this solicitation, and how grantees will be selected. This announcement consists of four parts:

• Part I provides background, purpose, and goals of the Young Offender Initiative: Reentry Grant Program.

• Part II describes specific program, administrative and reporting requirements that will apply to all grant awards.

• Part III describes the application process.

• Part IV describes the review process and rating criteria that will be used to evaluate applications for funding.

Part I—Background and Purpose of the Reentry Program

A. Background

The Workforce Investment Act (WIA) of 1998 establishes comprehensive reform of existing Federal job training programs with amendments impacting service delivery under the Wagner Peyser Act, Adult Education and Literacy Act, and the Rehabilitation Act. WIA provides a framework for a national one-stop delivery system designed to meet both the needs of the nation's businesses and the needs of job seekers who want to further their careers. A number of other Federal programs are also identified as required partners under the One-Stop delivery system with the intention of providing comprehensive services for all Americans to access the information and resources available to them in the development and implementation of their career goals. The intent of the One-Stop delivery system is to establish programs and providers in co-located, coordinated and integrated settings that are coherent and accessible for individuals and businesses alike in over 600 workforce investment areas which have been established throughout the nation.

WIA establishes State and Local Boards focused on strategic planning, policy development, and oversight of the workforce system with significant authority for the Governor and chief elected officials to build on existing reforms in order to implement innovative and comprehensive One-Stop delivery systems. In addition, Youth Councils, subgroups of the Local Boards, assist in developing parts of the local plan relating to youth, recommending providers of youth services, and coordinating local youth programs and initiatives. With its requirements to form these interdisciplinary Youth Councils and to develop one comprehensive plan for youth services, WIA presents a unique opportunity to change the way workforce development programs (and other youth development programs as well) are organized and operated to serve youth. WIA and the Youth Councils offer local areas the chance to look at how both in-school and out-of-school youth services are blended and deployed. They provide the framework that local areas can build on in order to realign, enhance, and improve youth services so that they are more closely coordinated, better utilized, and more effective.

In setting aside funds for this Solicitation, Congress noted “the severe problems facing out-of-school youth in communities with high poverty and unemployment and the inter-relatedness of poverty, juvenile crime, child abuse and neglect, school failure, and teen pregnancy.” This Notice provides a unique opportunity for selected workforce investment areas to address the needs of a special youth population—young offenders, gang members, and at-risk youth ages 14 to 24—through a comprehensive WIA effort. In addition, the models developed under this solicitation will enhance public safety by assisting communities to develop and sustain an infrastructure to reintegrate offenders, and will allow DOL, DOJ and DHHS to evaluate the program, identify effective practices, and disseminate these practices to other communities.

For this target population, unaddressed and untreated mental health problems often contribute to involvement in the juvenile justice system. Research indicates that between 50% to 80% of youth detained in juvenile facilities have mental health problems and that more than half of those with a psychological disorder also have a co-occurring substance abuse problem. Because untreated behavioral health problems can be severely debilitating, and because the prevalence of such disorders is significantly elevated for delinquent youth, it is critical that mental health and substance abuse services be incorporated into any comprehensive strategy that is designed to enhance youth functioning, decrease recidivism, and promote enduring workforce participation for this population.

In the previous two rounds of the youth offender grants (FYs 1998 and 2000), DOL in partnership with DOJ, had funded four demonstration projects under a separate model, the Education and Training for Youth Offenders Initiative. The grants under this model include projects in Columbus, OH; Indianapolis, IN; Tallahassee, FL; and a fourth site funded under SGA/DFA 01-101 to be announced by June 30, 2001. The first of these projects are in operation and provide comprehensive school-to-work education and training curricula for young offenders in juvenile corrections facilities and aftercare/reentry services upon the youths' return to their communities, with an emphasis on job placement and retention. Both DOL and DOJ are extremely interested in lessons learned from these sites, and will continue to evaluate the programs and services offered under this model.

B. Purpose and Goals of the Overall Young Offender Initiative: Reentry Grant Program

The Demonstration Grant Program is part of the larger Young Offender Initiative: Reentry Grant Program (Initiative) developed collaboratively by DOL, DOJ and DHHS. The focus of the Initiative is to assist communities in planning and implementing comprehensive “reentry” programs to address the full range of challenges involved in helping young offenders released from incarceration make a successful transition back to the community. The goal of the Initiative is to protect community safety through the successful reintegration of offenders returning to the community, by ensuring that offenders:

• Become productive, responsible, and law-abiding citizens;

• Are provided with positive opportunities to engage in pro-social activities;

• Maintain long-term employment;

• Sustain a stable residence; and

• Successfully address their substance abuse issues and mental health needs.

There are challenges in achieving this goal. These challenges involve assessing not only the needs of released offenders, but also the needs of the communities to which they return. Central to this effort is helping communities prepare for returning offenders by developing the infrastructure to more effectively integrate them—to ensure that communities have the resources to address offender accountability, supervision, and other public safety concerns, as well as offender long-term employment, health, mental health, substance abuse, and other critical needs. Addressing offender supervision, self-sufficiency, public health and related issues promotes public safety.

Addressing the community's wide-ranging needs requires creating broad public/private partnerships to tap the expertise and resources of key stakeholders to contribute to the effort. With this broad support, it is expected that highly collaborative reentry programs will be successful in meeting the goals of this Initiative by providing communities with the reentry assessment and support systems that both offenders and communities need to protect public safety and the health and overall well-being of its citizens. This Initiative seeks to promote innovative programs by providing applicants latitude in structuring their programmatic efforts.

Both the larger Reentry Grant Program Initiative and the Young Offender Initiative: Demonstration Grant Program share several other goals as well, which are to:

• Create innovative models of collaboration among Governors' designated representatives; Federal, State, and local government agencies responsible for criminal justice, workforce development, mental health and substance abuse; CBOs, faith-based organizations, employers, offenders and their families;

• Support localities in their efforts to promote healthy youth development activities that will assist at-risk youth and young offenders to positively contribute to the life of their communities;

• Learn as much as possible about what works in offender reentry and programs through testing and evaluating promising approaches; and

• Develop information on best practices on young offender reentry and to share this information with the criminal justice, workforce development, mental health and substance abuse delivery systems.

These goals, when realized, will provide beneficial results to DOL, DOJ, and DHHS in their effort to refine and learn from program experience with offenders. These will be in addition to the body of knowledge we already have on this younger population. Like the grants under the larger program, the Young Offender Initiative: Demonstration Grant Program is a demonstration effort, however, the target group is 14-24 years old. DOL has already received interim results of its first evaluation of the program and they are reflected and incorporated into the new solicitation that is part of the larger collaborative effort.

As these reentry programs are implemented, it will also be critical to document what works, by evaluating these efforts, identifying effective practices, and disseminating them to other communities.

This Young Offender Initiative: Demonstration Grant Program's overarching goal is to protect community safety through the successful reintegration of offenders returning to the community by ensuring that these individuals are given the supports that will better enable them to be productive, responsible citizens who are crime-free, maintain long-term employment and a stable residence, and are engaged in substance abuse and mental health treatment as needed. The Young Offender Initiative: Demonstration Grant Program targets an age-related subset of the larger initiative's target population and expands the focus to include other at-risk or gang-involved youth but retains the same goal of providing job training and employment opportunities, education, substance abuse treatment and rehabilitation, mental health, aftercare, housing and family support services, and juvenile/criminal justice supervision.

C. Authority

Sections 171 and 172 of the Workforce Investment Act of 1998, Pub. L. 105-220, 112 Stat. 936, as amended, 29 U.S.C. § 2801, et seq., authorizes use of funds for demonstration projects. DOL is authorized to award and administer this program by the Department of Labor Appropriations Act, 2001, Pub. L. No. 106-554, 114 Stat. 2763A-3 (2000).

D. Funding Availability

The Department expects to award 6 grants approximately $1.5 million each under category A (Large Areas) and 5 grants approximately $600,000 each under category B (Small to Medium-Sized Areas) for a total of approximately $11.5 million.

Part II—Requirements

A. Eligible Participants

Applicants are to target the youth population ages 14-24 focusing primarily on placing youth offenders, gang members, and at-risk youth into long term employment (part-time for ages 14-15).

B. Administrative Requirements

1. General

Grantee organizations will be subject to: these guidelines; the terms and conditions of the grant and any subsequent modifications; applicable Federal laws (including provisions in appropriations law); and any applicable requirements listed below—

a. Workforce Investment Boards—20 Code of Federal Regulations (CFR) Section 667.220, published in the Federal Register, August 11, 2000 (65 Fed. Reg. 49294) (Administrative Costs).

b. Non-Profit Organizations—Office of Management and Budget (OMB) Circulars A-122 (Cost Principles) and 29 CFR Part 95 (Administrative Requirements).

c. Educational Institutions—OMB Circulars A-21 (Cost Principles) and 29 CFR Part 95 (Administrative Requirements).

d. State and Local Governments—OMB Circulars A-87 (Cost Principles) and 29 CFR Part 97 (Administrative Requirements).

e. All entities must comply with 29 CFR Parts 93 and 98, and, where applicable, 29 CFR Parts 96 and 99.

Note: Except as specifically provided, DOL/ETA acceptance of a proposal and an award of federal funds to sponsor any program(s) does not provide a waiver of any grant requirement and/or procedures. For example, the OMB circulars require an entity's procurement procedures must require that all procurement transactions must be conducted, as practical, to provide open and free competition. If a proposal identifies a specific entity to provide the services, the DOL/ETA's award does not provide the justification or basis to sole-source the procurement, i.e., avoid competition.

2. Subgrants/Contracts

Subgrants and contracts must be awarded in accordance with 29 CFR 95.40. In compliance with Executive Orders 12876, 12900, 12928 and 13021, the grantee(s) are strongly encouraged to provide subgranting opportunities to Historically Black Colleges and Universities, Hispanic Serving Institutions and Tribal Colleges and Universities.

3. Incorporation of New Information

Grantees must utilize any newly developed DOL/DOJ/SAMHSA research findings (which may become available after the grant awards) on how to run effective programs. Applicants therefore will be required to modify their demonstration program during the post-award planning process based upon any new information, as specified in the terms and conditions of the grant award. In order to assist with this effort, DOL, DOJ, and DHHS will design early technical assistance in the planning process to aid the grantees with the incorporation of program changes predicated on the new information.

4. Evaluation

As a condition for award, all applicants must agree to participate in a separately-funded evaluation. Applicants will not set aside funds for evaluation activities. All applicants must provide assurances in their proposals that they will cooperate with the evaluators and provide access to the data necessary to the evaluations. Awardees of the grants further agree to make available upon request to DOL-authorized evaluation contractor(s) data for a period not to exceed 24 months beyond the demonstration period (which should not exceed 24 months) through a no-cost extension of the grants. The availability of this data beyond the demonstration period will enable the contractor to perform follow-up analysis.

C. Reporting Requirements

Applicants must clearly define their procedures for reporting progress on a quarterly basis (including data elements listed in Part II C.2 ) and for identifying and presenting the results of project interventions. Proposals should also describe in detail the specific reports and other deliverables to be provided to ETA as documentation of progress and results in terms of improved outcomes for the target population. An implementation plan to be submitted within 60 days of the grant execution and approved by DOL, DOJ, and DHHS quarterly reports, an annual report, and a final report summarizing progress are required for projects under this SGA. For financial reports, the grantee must consult its appropriate administrative regulations, 29 CFR Part 95 and 29 CFR 97.

1. Data Collection

All demonstration sites must collect and maintain participant records and compile administrative data from these projects to document results and accomplishments, and provide a learning experience for the workforce development system, DOL, DOJ and DHHS. The data requirements must include the following information in two age ranges (14-17 and 18-24):

N. Number recruited;

O. Number enrolled;

P. Number who entered training;

Q. Number who entered or reentered secondary school;

R. Number who entered or reentered post-secondary school;

S. Number who entered employment (total):

• Subsidized and

• Unsubsidized;

T. Number “served by aftercare” programs;

U. Number who entered the military;

V. Number who entered national and community service;

W. Number referred to other services such as dropout prevention, drug rehabilitation, mental health and substance abuse treatment services;

X. Number who entered other job training programs;

Y. Number referred to apprenticeship programs;

Z. Number of in-school youth served; and

AA. Number of out-of-school youth served.

As a measure of progress, grantees also must collect data on factors which predict future employment of youth prior to youth's employment full-time, full-year. Therefore, applicants must identify what factors consider to be youth development indicators, e.g., dependability in participating in project activities; remaining free of further convictions; passing part or all of the GED examinations; being able to keep a part-time job; or making acceptable progress (credits earned) toward a diploma, etc. In addition, if applicable, data elements associated with WIA may be required (to be specified in the grantee's statement of work).

D. Acknowledgment of Federal Funding

In all circumstances, the following must be displayed on printed materials:

Preparation of this material/item was funded by the United States Department of Labor under Grant Agreement No. [insert the appropriate grant agreement number].

When issuing statements, press releases, requests for proposals, bid solicitations, and other documents describing projects or programs funded in whole or in part with Federal money, all grantees receiving Federal funds must clearly state:

a. The percentage of the total costs of the program or project which will be financed with Federal money;

b. The dollar amount of Federal funds for the project or program; and

c. The percentage and dollar amount of the total costs of the project or program that will be financed by non-governmental sources.

Part III—Application Process

A. Eligible Applicants

Under this Initiative, Youth Offender: Demonstration Grant Program, there will be two (2) categories of eligible applicants; Applicants may only apply under one category. They are:

1. Category A—Large Areas

Local Boards other political subdivisions of the State, and eligible private entities which provided services located in high-crime communities with a population greater than 400,000 and a high youth crime rate and a significant youth gang problem are eligible to receive grant funds under this announcement; or

2. Category B—Small to Medium-Sized Areas

Local Boards, other political subdivisions of the State, and private entities which are all situated within high-crime communities with a population of at least 100,000 and not greater than 400,000 and a high youth crime rate and a significant youth gang problem are eligible to receive grant funds under this announcement.

All applicants in both categories are required to designate a specific area or neighborhood (i.e., Empowerment Zones [EZs] and/or Economic Communities [ECs], etc.) to receive services under this demonstration.

Private entities not eligible for funds under this Notice are for-profit organizations, 501(c)(4) nonprofit organizations, and individuals. According to Section 18 of the Lobbying Disclosure Act of 1995, an organization described in Section 501 (c) (4) of the Internal Revenue Code of 1986 that engages in lobbying activities will not be eligible for the receipt of federal funds constituting an award, grant, or loan.

Eligible entities may include community development corporations, community action agencies, community-based and faith-based organizations, disability community organizations, health care organizations, children and family service agencies, public and private colleges and universities, and other qualified private organizations. Organizations or areas that operate the Department of Justice's Safe Futures or Comprehensive Community-Wide Approach to Gang Prevention, Intervention, and Suppression demonstrations can also apply through their Local Boards. Applicants should provide documentation from their local law enforcement agency showing support for the existence or emerging gang problem and other serious youth crime problems.

Entities other than a Local Board must submit an application for competitive grant funds in conjunction with the Local Board(s) the area in which the project is to operate. The term “in conjunction with” must mean that the application must include a signed certification by both the applicant and the appropriate Local Board (s) indicating that:

1. The applicant has consulted with the appropriate Local Board (and its Youth Council) during the development of the application; and

2. The activities proposed in the application are consistent with, and will be coordinated with, the One-Stop delivery system efforts of the Local Board(s).

If the applicant is unable to obtain the certification, it will be required to include information describing the efforts which were undertaken to consult with the Local Board and its Youth Council and indicating that the Local Board was provided, during the proposal solicitation period, a sufficient opportunity to cooperate in the development of the project plan and to review and comment on the application before its submission to the Department of Labor. “Sufficient opportunity for Local Board review and comment” must mean at least 30 calendar days. Failure to provide information describing the efforts which were undertaken to consult with Local Board(s) will disqualify applicants.

The certification, or evidence of efforts to consult, must be with each Local Board in the service area in which the proposed project is to operate. These certifications must be included in the grant application, and will not count against the established page limitations. For the purposes of this portion of the application, evidence of efforts to consult with the Local Board must be demonstrated by written documentation, such as registered mail receipt, that attempts were made to share project applications with the Local Board in a timely manner. Local Board applicants and applicants that provide a signed certification by the applicant and the appropriate Local Board(s) will be given preference for award.

B. Submission of Applications

Each application clearly must identify the category under the Youth Offender: Demonstration Grant Program, the applicant is applying for funds. This information must appear on the face sheet of the application.

1. The Application

Applicants must submit one (1) original and three (3) copies of their proposal, with original signatures. There are three required sections of the application: Section I-Project Financial Plan; Section II-Executive Summary; and Section III-Project Narrative (including Appendices, not to exceed thirty pages). Applications that fail to meet these requirements will not be considered.

Section I—Project Financial Plan. Section I of the application must include the following two required elements: (1) Standard Form (SF) 424, “Application for Federal Assistance,” (Appendix A) and (2) “Budget Information Form,” (Appendix B). All copies of the SF 424 MUST have original signatures of the legal entity applying for grant funds. Applicants must indicate on the SF 424 the organization's IRS Status, if applicable. The Catalog of Federal Domestic Assistance (CFDA) number is 17-261. Section I will not count against the application page limits.

In preparing the Budget Information form, the Financial Plan must describe all costs associated with implementing the project that are to be covered with grant funds. In addition, Section I must include a budget narrative/justification which will detail the cost breakout of each line item on the Budget Information Form. This must provide sufficient information to support the reasonableness of the costs included in the budget in relation to the service strategy and planned outcomes. The budget must be for the full duration of the project but may not exceed 30 months. All costs must be necessary and reasonable according to the Federal guidelines set forth in the “Uniform Administrative Requirements for Grants and Cooperative Agreements to State and Local Governments” (also known as the “Common Rule”), codified at 29 CFR Part 97 (97.22) and “Grants and Agreements with Institutes of Higher Education, Hospitals, and Other Non-Profit Organizations” (also known as OMB Circular A-110), codified at 29 CFR Part 95, (95.27).

Section II—Executive Summary (format requirements limited to no more than two single-spaced, single-sided pages). Each application must provide a project synopsis which identifies the following:

• The applicant;

• The consortium partners and the type of organizations they represent;

• The project service area;

• Whether the service area is an entire local workforce investment area, more than one local area, and/or all local areas in a State;

• The specific areas of focus in the announcement which are addressed by the project;

• The planned period of performance;

• A summary of the comprehensive strategy (e.g., who will provide services, who will be accountable for the project, etc.) for providing seamless service delivery and for addressing the multi-faceted barriers to training and employment which affect youth who are or who have been under criminal justice supervision or involved in gangs or who are at-risk of involvement;

• How counseling and other support needs will be addressed in the One-Stop delivery system;

• The actions already taken by the State or Local Workforce Investment Board to address the needs of at-risk youth in the One-Stop delivery system;

• The level of commitment the applicant (including all consortium members, if any) and other partners have to serving at-risk youth;

• The linkages between the project and the local WIA Youth Council through the One-Stop delivery system, as well as linkages with the business and education communities, mental health and substance abuse systems, and juvenile justice agencies; and

• A written confirmation that the applicant will cooperate with the evaluators.

Section III—Project Narrative (format requirements limited to no more than thirty (30) double-spaced, single-sided, numbered pages). Section III of the application, the project narrative, must contain the technical proposal that demonstrates the applicant's plan and capabilities in accordance with the evaluation criteria contained in this notice. Applicants MUST limit the project narrative section to no more than thirty (30) double-spaced and single-sided pages, which include any attachments provided by the applicants. Letters of general support or recommendation for a proposal must NOT be submitted and will count against the page limit. However, letters of commitment are required from partner/consortia organizations and will not count against the page limit.

The Project Narrative must be double-spaced, and on single-sided, numbered pages with the exception of format requirements for the Executive Summary. The Executive Summary must be limited to no more than two (2) single-spaced, single-sided pages. A font size of at least twelve (12) pitch is required throughout the application.

2. Youth Development Principles

Strength-based programming that is designed to build upon a youth's assets and enhance functioning at the individual, family, and community levels will foster healthy development and further advance the goals of youth involvement in pro-social activity. DOL, DOJ and DHHS expect models developed under this solicitation to be consistent with the youth development principles that Gary Walker described in the Sar Levitan Institute's A Generation of Challenge: Pathways to Success for Urban Youth (1997):

• Each young person needs to feel that at least one adult has a strong stake in his labor market success.

• Programs must be connected to employers; placement with one of these employers is possible and initial placement is one step in a continuing long-term relationship with a program that will advance the young person's employment and earnings.

• Each young person must feel at each step the need to improve education and credentials.

• Program support will be there for a long time.

• Effective connections are maintained between the programs and providers of support services.

• The program emphasizes civic involvement and service.

Age Issues: Also, critical to the new model is the distinction between two subpopulations within the solicitation target group: younger youth (ages 14 to 17) and older youth (ages 18 to 24). Younger youth require different sets of treatment and skills programming than those between the ages of 18 and 24, as they may have less exposure to the world of work and fewer of the necessary work-related skills or may not be able to enter into long-term, full-time work until they are older. Services intended for younger youth should, therefore, focus on pre-employment training, education, treatment and appropriate employment in preparation for long-term employment when they reach an appropriate age. Interventions for these youth that are the most effective are those that can make a positive impact upon both the youth and his or her family. The provision of strength-based family-centered therapy and supports designed to enhance family functioning and communication will thus facilitate the broader process of skill and competency development for the youth. For youth re-entering the community following institutional placement, it is particularly vital to offer therapeutic supports to aid the re-unification process. Older youth (18 to 24 year-olds) should focus on attaining their GEDs or diplomas, possibly pursuing higher education or additional vocational training, and obtaining unsubsidized full-time employment. The applicants must use the following structure:

One-Stop Youth Services Demonstration Model

Demonstration projects under this model will operate in heavily impoverished communities in need of implementing comprehensive community-wide approaches to assist young offenders, gang members, and those at risk of becoming involved in gangs, all of whom may either be currently in school or out-of-school. These communities will have already built service capacity into their One-Stop delivery systems to expand the range and quality of services designed to prepare high-risk youth for high-quality employment with career development ladders and livable wages, but may not have fully implemented these activities. Grantees will be required to expand services in each of 3 areas: (1) gang prevention and suppression activities; (2) alternative sentencing for offenders; and (3) after-care and case management for incarcerated youth. In addition, grantees must provide education and mental health services, employment training, sports and recreation, youth development services, and community services projects in order to reduce recidivism and procure for the target population long-term employment at livable wage levels. The grantees must place particular emphasis on enhancing existing case management, treatment, youth development, family involvement and support, and job placement services for youth on probation or for those who are reentering the community from corrections facilities. These support services should be provided throughout the entire employment search continuum, i.e., from the beginning of the employment search until well after the procurement of employment. Projects need to include youth and families in project planning and activities. The projects also will maintain records of the number of contacts made after placement and the type of support services provided.

The projects also will implement an intensive and comprehensive aftercare system to reduce juvenile recidivism. Aftercare systems should be implemented while youth are still incarcerated to establish community links with faith-based organizations, parents or guardians, mental health and substance abuse treatment systems, schools, training and educational opportunities, parole systems, social contacts and activities, and mentors. The aftercare services planned for those individuals incarcerated must involve the staff and administrators of the juvenile corrections facilities where the youth are institutionalized.

Structured Model Requirements: New structured requirements for the model which all applicants must use are based, in part, on PEPNet effective practices criteria and the Interim Report for Youth Offender Demonstration Project, Process Evaluation (March 2001) for the first round of Young Offender Grants, which may be found at the Employment and Training Administration's website, http://www.doleta.gov. Applicants' proposals are required to demonstrate the following, which will be rated in the rating criteria:

(1) Well Conceived Plan:

• Program has a clear and focused vision and mission.

• Program goals and objectives are realistic and measurable.

• Stakeholders, including community partners, family member representatives, and front-line staff, are involved during program development and implementation.

(2) Established Partnership with the Juvenile Justice and Health Care Systems:

• Grantee is experienced in working with the Juvenile Justice and Health Care Systems.

(3) Collecting and Maintaining Data:

• A system for collecting and reporting program information is available and utilized.

(4) Community Support/Network:

• Program is supported by youth and family serving agencies including CBOs, faith-based organizations, and public service agencies.

• Projects need to include youth and families in project planning and activities.

(5) Grantee Involvement:

• Grantee is the lead agency, actively providing direction and coordination for the project.

• Grantee involvement and support is continuous.

(6) Connections with Workforce Development, Juvenile Justice and Health Care Systems:

• Grantee coordinates with and utilizes resources available through the Workforce Development, Juvenile Justice, and Health Care Systems.

(7) Leveraging Resources through Collaboration and Partnerships:

• Project effectively identifies and utilizes other resources and funding streams to support project goals.

(8) Continuous Improvement:

• Project conducts self-assessment and actively seeks and accepts available technical assistance.

(9) Shared Leadership and Information Sharing:

• Decision making and information is shared with stakeholders.

3. Program Components

The grant awards must be used to enhance and augment presently existing strategies which serve young offenders, out-of-school youth, and gang members or those at-risk of becoming gang-involved. Efforts should be made to integrate youth into a full range of educational, treatment, and alternative programs when appropriate. In addition to intensifying current systems, the projects also will link with and build upon available community resources such as educational (including special education), support, workforce development (engaging Local Boards/Youth Councils), health care, child care, and transportation services. The projects will use these community resources to accomplish the successful transition of youth to independent living within the community, a reduction in recidivism, and the accomplishment of employment, training, and education goals. In order to address specifically the distinct needs and problems of young offenders, gang members, and those at-risk of becoming gang-involved who are living in high-poverty localities, the overarching strategy for the model community projects should encompass the following:

Purpose/Need: Applicants must describe the need in the target neighborhood as demonstrated by issues such as severity of gang problems, the number of young offenders residing in the target community, gaps in availability of adolescent mental health and substance abuse treatment for at-risk youth, and the inability for existing services to address the needs of young offenders and gang members. Applicants should also relate the need to the overall purpose of the planned program components.

Alternative sentencing/education: Grantees must describe their plans for expanding alternative sentencing, including enhanced education services for young offenders. Project case managers and other staff must prepare the target population for sustainable high-quality employment by providing assistance to remain in school, return to school, enroll in GED and high school equivalency classes, or participate in additional alternative education such as long-distance learning programs or on-line courses. Applicants must describe the educational services that will be offered by the project, with particular attention given to the utilization of existing educational system services and the involvement of the schools in the area. Youth with emotional and behavioral disorders will benefit from evidence-based, culturally competent treatment interventions. Applicants must describe the process for providing assessment and treatment planning, as well as the options for individual and family therapy that will be made available. In addition, applicants must describe the overall use of project case managers and other staff in the planned program components that will provide educational services.

Career preparation services: The One-Stop Youth Services Demonstration Model must provide for employment preparation, youth development services, job placement, and linkages with the workforce development system. The model must focus on programs that train individuals for employment in fields in which technology skills are critical aspects of the jobs emerging in the regional labor market. The training model may also include basic skills and pre-apprenticeship training as appropriate, particularly for younger youth, e.g. ages 14-17. Applicants must address the various strategies that their models will employ to actively recruit the target population, and must discuss the projected length of time necessary to determine the efficacy of their models' technical assistance.

Case management/support services: Project case managers must prepare the target population for sustainable high-quality employment by utilizing intensive training and support services, including drug and alcohol treatment, mentoring and tutoring, child care, counseling, and other case management services. The framework for the model must provide for (as applicable): individual needs assessment; individual service strategies; long-term follow-up services; and linkages with human services, housing, health care, education, and transportation services; and gender-specific services (e.g., treatment for trauma associated with sexual abuse, and domestic violence prevention initiatives). Other strategies may include “soft skills” training (e.g., individual competency development efforts), like job behavior and life skills training, social skills and self-determination, conflict resolution, parenting classes, exposure to post-secondary education opportunities, and military service/national and community service projects. Service strategies must also focus on providing assistance to engage in job training, secure employment, fulfill legal restitution obligations, or establish successful independent living. Special-needs youth, including those with physical, psychiatric, and/or developmental disabilities must be provided with enhanced case management that will allow them to access a comprehensive system of care, including treatment, education, and individual and family support services.

Because this wide range of services should be provided by the proposed or existing partnerships of community organizations, applicants must submit memoranda of understanding (MOUs) with the local WIA partners and other critical agencies specifying the role of each party in the project. Applicants must describe the intensive training and support services identified above that will be offered as part of the planned program components, and must detail the role of project case managers in the provision of these training and support services. In addition, applicants must detail their capacity to sustain these activities for 2 years after funding under this solicitation is no longer available.

Young Offender and Gang Prevention Advisory Board: In order to institute a holistic approach to assisting the target population, family member representatives, employment, education, mental health, child welfare, substance abuse, criminal justice, and community-based youth programs must be incorporated into the projects. In developing this interrelated system, grant funds must be used to create a young offender and gang prevention advisory board that participates in the coordination of all activities and provides input and community support to the project's leadership. The advisory board should be comprised of public and private sector representation, parents, youth members, and graduates of other young offender programs and will link with the local Youth Council to provide seamless delivery of services and maximize use of available resources. Applicants must describe the planned composition of the advisory board, with particular emphasis upon the process for selecting and seating the representation of the board. The applicant must describe the functions of the board and the process planned to utilize the board in designing the holistic delivery expected under the project. Grantees must also describe their plans for expanding gang prevention and suppression efforts in the target community, including expanded efforts by local law enforcement agencies.

Aftercare: Grant funds must link with existing resources to provide intensive aftercare services for young offenders transitioning from secure confinement in a juvenile corrections facility to the community. Projects must strategically coordinate community-wide efforts and resources to address reentry issues such as surveillance, supervision, graduated sanctions and incentives, linkages to community support systems (families, peers, schools, employers), transitional housing, and job training and placement activities. Applicants must describe clearly, detailed reentry plans for young offenders scheduled for release to their communities and their capacity to sustain their activities for 2 years after funding is no longer available. Strategies for effective case management services in aftercare programming include:

• Use of a reliable and validated risk assessment and classification instrument for establishing eligibility of the targeted population;

• Individual case planning that incorporates a family and community perspective;

• Provision of mental health and substance abuse assessment and referral to appropriate treatment services

• A mix of intensive surveillance and enhanced service delivery;

• Comprehensive, interagency transition planning that involves all critical stakeholders;

• A balance of incentives and graduated consequences coupled with the imposition of realistic, enforceable conditions;

• Work-related or work-oriented activities such as exposure to the workplace, on-the-job training, work experience, job shadowing, etc.;

• Coordination of resources of juvenile correctional agencies, juvenile courts, juvenile parole agencies, law enforcement agencies, social service providers, and local Workforce Investment Boards; and

• “Soft skills” training, e.g., individual competency development efforts, job behavior and life skills training; self determination and social skills training; conflict resolution and anger management; parenting classes; exposure to post-secondary education opportunities; and community service learning projects.

Partnerships/Linkages: In addition to enhancing already existing services and programs, projects must center any newly developed and implemented activities upon the needs of youth involved, or at risk of becoming involved, with the juvenile justice system and gangs. In order to accomplish this, applicants should use partnerships both (1) to enhance the young offender programs funded under this grant and (2) to provide complementary programs so as to link services within the target community and provide a diversity of options for all young offenders within the target area. These partnerships must agree to:

• Implement an education and employment program for young offenders, gang members, and at-risk youth in the target area, including coordination with the private sector to develop a specified number of career-track jobs for target area young offenders;

• Establish alternative sentencing and community service options for young offenders, gang members, and at-risk youth in the target area;

• Connect youth and their families to appropriate therapeutic and supportive services designed to enhance individual and family functioning;

• Expand gang suppression activities in the target area;

• Provide work-related or work-oriented activities such as exposure to the workplace, on-the-job training, youth development services, work experience, job shadowing, etc.; and

• Build connections to local workforce investment systems such as linkages with Local Boards while demonstrating approaches that ensure that high-risk youth are provided with quality workforce development services.

Applicants must outline how they will involve residents, youth, and others of the community in planning and involvement in the effort. Proposals must describe the efforts within the project to utilize existing services and programs, particularly those offered through the WIA One-Stop delivery system, the juvenile justice system, and health care system. Applicants must describe the efforts to be undertaken to coordinate services with private sector entities, including commitments for private sector jobs. Proposals must describe newly developed and implemented services and how these will enhance and augment presently existing strategies in the community.

In addition, proposals must specify the linkages between the One-Stop Youth Services Model, local One-Stop delivery systems and the Youth Council (which is part of the Workforce Investment Board) to ensure coordination of workforce development services. These linkages must include both existing and proposed strategies.

4. Cost Sharing/Leveraging Funds

Applicants also should discuss their plans to leverage and align with other funds or resources in order to build permanent partnerships for the continuation of services, and should provide some discussion of the nature of these leveraged resources, i.e., Federal, non-Federal, cash or in-kind, State and county, foundation, capital equipment, and other funds. Also, the Federal Bonding Program and the Work Opportunity Tax Credit (WOTC) should be considered as potential tools to assist with young offender employment placements. Information about these programs may be found on ETA's website at http://www.doleta.gov.

C. Delivery of Applications

1. Hand Delivered Proposals

Mailed applications must be mailed in time to be received at the address identified above by 4 P.M. (Eastern Daylight Savings Time), on Monday, October 1, 2001. We prefer that applications be mailed at least five days prior to the closing date. To be considered for funding, hand-delivered applications must be received by 4:00 P.M. (Eastern Daylight Savings Time), on Monday, October 1, 2001 at the address identified above. All overnight mail will be considered to be hand delivered and must be received at the designated place by the specified closing date and time.

2. Telegraphed and/or Faxed Applications Will Not Be Honored

Failure to adhere to the above instructions will be a basis for a determination of nonresponsiveness. Overnight express mail from carriers other than the U.S. Postal Service will be considered hand-delivered applications and must be received by the above specified date and time.

3. Late Applications

Any application received after the exact date and time specified for receipt at the office designated in this notice will not be considered, unless it is received before awards are made and it:

• Was sent by registered or certified mail not later than the fifth calendar day before the date specified for receipt of applications (e.g., an application submitted in response to a solicitation requiring receipt of applications by the 20th of the month must have been mailed/post-marked by the 15th of the month); or

• Was sent by the U.S. Postal Service Express Mail Next Day Service, Post Office to Addressee, not later than 4:00 P.M. at the place of mailing two working days prior to the dateline date specified for receipt of proposals in this SGA. The term “working days” excludes weekends and federal holidays.

The only acceptable evidence to establish the date of mailing of an application received after the deadline date for the receipt of proposals sent by the U.S. Postal Service and on the original receipt from the U.S. Postal Service. The term “post-marked” means a printed, stamped, or otherwise placed impression (exclusive of a postage meter machine impression) that is readily identifiable, without further action, as having been supplied or affixed on the date of mailing by an employee of the U.S. Postal Service.

4. Withdrawals

Applications may be withdrawn by written notice or telegram (including a mail gram) received at any time before an award is made. Applications may be withdrawn in person by the applicant or by an authorized representative thereof, if the representative's identity is made known and the representative signs a receipt for the proposal.

D. Performance Period

The period of performance for all grants awarded under this competition, will be for 30 months from the date the grant is awarded. The first 24 months must be devoted to providing program services to eligible youth as defined in this notice. The final six months will be solely for organizing participant case files, providing the files to the demonstration's evaluator within two months after grant-funded services terminate, and participating in a final site visit interview with the evaluators. The budget submitted for the period of performance must cover the full 30 months.

Part IV—Review Process and Rating Criteria

The technical panel which will be composed of peer reviewers and the three agencies personnel, will make a careful evaluation of applications against the criteria established in this Notice. The panel will review grant applicants against the criteria listed below on the basis of 100 points with an additional 5 points available for non-federal or leveraged resources. Final funding decisions will be based on the rating of applications as a result of the review process, and other factors such as geographic balance, availability of funds, and what is most advantageous to the Government. The panel results are advisory in nature and not binding on the Grant Officer. The Government may elect to award the grant(s) with or without the discussions with the offeror(s). In situations without discussions, an award will be based on the offeror's signature on the SF 424, which constitutes a binding offer.

Model Rating Criteria

Each application under this category will be evaluated against the following rating criteria:

• Establishment of and adherence to model structure requirements (15 points), see Part III.B.2; planned or committed linkages between the One-Stop Youth Services Demonstration Model, the One-Stop delivery system (WIA local board and youth council) and the juvenile justice and health care systems (20 points) = (35 total points):

• Plan to enhance and augment alternative sentencing, including educational, youth development, mental health, substance abuse, and supportive services and case management (7 points); role of project case managers in these delivery strategies (4 points); plan for linking with schools for co-enrollment, etc. (4 points) = (15 total points);

• Plan and capacity for conducting intensive comprehensive aftercare for enhancing positive youth development and preventing recidivism (15 points);

• Level of planned or committed participation of educational agencies/schools, health care agencies (5 points); and other public sector, WIA, and private sector partners (5 points); employment-related connections with the business community (5 points) = (15 total points);

• Plan for enhancing gang prevention and suppression efforts, and use of a young offender and gang prevention advisory board to achieve coordination (6 points); establishment of creative partnerships with local community grassroots organizations which provide services to the target population (4 points) = (10 total points);

• Need in target neighborhood, as demonstrated by severity of gang problem, the number of young offenders residing in the target community, and the barriers facing existing services to reach young offenders and gang members, such as gaps in availability of mental health and substance abuse treatment = (5 points); and

• Plan to fulfill reporting requirements; and confirmation of cooperation with DOL evaluators (5 points).

• Leveraging of Funding (5 additional points).

We will give up to five (5) additional rating points to proposals which include non-Federal resources that expand the dollar amount, size and scope of the proposal. The applicant may include any leveraging or co-funding anticipated. To be eligible for the additional points in the criterion, the applicant must list the source(s) of funds, the nature, and activities anticipated with these funds under this cooperative agreement and any partnerships, linkages or coordination of activities, cooperative funding.

Signed at Washington, DC, this 5th day of June, 2001.
Laura A. Cesario,
Grants Officer.

Appendix A: Application for Federal Assistance (SF-424)

Appendix B: Budget Information Form

Appendix C: Cover Sheet

BILLING CODE 4510-30-U

[FR Doc. 01-14488 Filed 6-6-01; 8:45 am]

BILLING CODE 4510-30-C